DEPARTMENT OF ENERGY

Federal Energy Regulatory Commission

[Docket No. CP01-4-000]

Maritimes & Northeast Pipeline, L.L.C.; Notice of Application

October 20, 2000.

Take notice that on October 10, 2000, Maritimes & Northeast Pipeline, L.L.C. (Maritimes & Northeast), 1284 Soldiers Field Road, Boston, Massachusetts 02135, filed in Docket No. CP01-4-000 an application pursuant to the provisions on section 7 of the Natural Gas Act for a certificate of public convenience and necessity authorizing the construction and operation of pipeline facilities for the transportation of natural gas, all as more fully set forth in the application which is on file with the Commission and open to public inspection. This filing may be viewed on the web at http://www.ferc.fed.us/online/rims.htm (call 202-208-2222 for assistance).

Specifically, Maritimes & Northeast seeks to construct and operate: (1) Approximately 24 miles of 30-inch pipeline and approximately one mile of 24-inch pipeline from a connection with the existing Maritimes & Northeast system near Methuen, Massachusetts to an interconnection near Beverly, Massachusetts with the proposed facilities of Algonquin Gas Transmission Company's (Algonquin); (2) a meter station in Methuen; (3) a meter station in Beverly; and (4) other appurtenant facilities. Maritimes & Northeast states that the proposed facilities will be capable of providing approximately 360,000 dekatherms per day of firm transportation service at an estimated cost of $133,995,000. Maritimes & Northeast proposes to place the facilities in service on November 1, 2002.

Maritimes & Northeast proposes to provide firm and interruptible transportation service on the new facilities pursuant to its existing rate schedules on file with the Commission and the general terms and conditions of its FERC Gas Tariff. Maritimes & Northeast adds that rates for service to firm customers are capped at $0.715 per dekatherm on a 100 percent load factor basis for the first five years following the in-service date of the existing mainline. Maritimes & Northeast states that it will add the new Beverly delivery point with Algonquin as an additional primary delivery point in each firm customer's transportation agreement. Maritimes & Northeast asserts that this new delivery point will give its existing customers greater access to Northeastern markets and new operating flexibility and will also increase the reliability of service.

Maritimes & Northeast states that because of the benefits to existing customers along with the five-year rate cap, its proposal satisfies the Certificates Policy Statement's (Policy Statement) threshold requirement that existing customers of a pipeline not subsidize a project.¹ Maritimes & Northeast states that it does not seek to roll in the cost of the new facilities at this time, but may seek to do so in the future. Maritimes & Northeast avers that it has made significant efforts to minimize any adverse impacts in accordance with the Policy Statement. Further, Maritimes & Northeast asserts that its proposal provides significant benefits to its firm shippers and to the public, including: satisfying demand that is not currently being served by the existing pipeline grid; eliminating bottlenecks in the northeastern U.S. pipeline grid; providing direct access to a new source of supply for markets behind the Maritimes & Northeast and Algonquin systems; lowering natural gas costs by providing upstream pipeline alternatives; increasing reliability to the local distribution company and electric generation markets; and advancing clean air objectives.

¹ See, 88 FERC ¶ 61,227 (1999), clarification 90 FERC ¶ 61,128 (2000), further clarification 92 FERC ¶ 61,094 (2000).

Any questions regarding the application should be directed to Joseph F. McHugh, Director, Regulatory Affairs, M&N Management Company, 1284 Soldiers Field Road, Boston, Massachusetts 02135 at 617-560-1518.

Any person desiring to be heard or to make any protest with reference to said application should on or before November 13, 2000, file with the Federal Energy Regulatory Commission, 888 First Street NE., Washington, DC 20426, a motion to intervene or protest in accordance with the requirements of the Commission's Rules of Practice and Procedure (18 CFR 385.211 and 385.214) and the regulations under the NGA (18 CFR 157.10). All protests filed with the Commission will be considered by it in determining the appropriate action to be taken but will not serve to make the protestants parties to the proceeding. Any person wishing to become a party in any proceeding must file a motion to intervene in accordance with the Commission's rules. Beginning November 1, 2000, comments and protests may be filed electronically via the internet in lieu of paper. See, 18 CFR 385.2001(a)(1)(iii) and the instructions on the Commission's web site at http://www.ferc.fed.us/efi/doorbell.htm.

Any person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit original and two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court.

The Commission will consider all comments and concerns equally, whether filed by commenters or those requesting intervenor status.

Take further notice that, pursuant to the authority contained in and subject to the jurisdiction conferred upon the Commission by sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure provide for, unless otherwise advised, it will be unnecessary for Maritimes & Northeast to appear or to be represented at the hearing.

David P. Boergers,
Secretary.

[FR Doc. 00-27487 Filed 10-25-00; 8:45 am]

BILLING CODE 6717-01-M